DEPARTMENT OF ENERGY

Federal Energy Regulatory Commission

[Project No. 13565-000]

Claire Fay and Charles Hotchkin; Notice of Application Tendered for Filing With the Commission, Soliciting Additional Study Requests, Intent To Waive Three Stage Consultation, and Establishing an Expedited Schedule for Processing

August 14, 2009.

Take notice that the following hydroelectric application has been filed with the Commission and is available for public inspection.

a. Type of Application: Exemption from licensing.

b. Project No.: P-13565-000.

c. Date filed: August 4, 2009.

d. Applicant: Claire Fay and Charles Hotchkin.

e. Name of Project: Alder Brook Mini Hydro Project.

f. Location: On the Alder Brook, near the town of Richford, Franklin County, Vermont. This project does not occupy federal lands.

g. Filed Pursuant to: Public Utilities Regulatory Policies Act of 1978, 16 U.S.C. 2705, 2708.

h. Applicant Contact: Mr. Charles Hotchkin, 321 Prive Hill Road, Richford, Vermont 05476. (802) 933-2217.

i. FERC Contact: Michael Spencer, michael.spencer@ferc.gov (202) 502-6093.

j. Cooperating Agencies: We are asking Federal, state, and local agencies and Indian tribes with jurisdiction and/or special expertise with respect to environmental issues to cooperate with us in the preparation of the environmental document. Agencies who would like to request cooperating status should follow the instructions for filing comments described in item k below.

k. Pursuant to Section 4.32(b)(7) of 18 CFR of the Commission's regulations, if any resource agency, Indian tribe, or person believes that an additional scientific study should be conducted in order to form a factual basis for complete analysis of the application on its merits, the resource agency, Indian tribe, or person must file a request for the study with the Commission no later than 60 days from the application filing date, and serve a copy of the request on the applicant.

l. Deadline for filing additional study requests and requests for cooperating agency status: With this notice, we are waiving the 60-day timeframe in Section 4.32(b)(7) of 18 CFR for requesting additional studies and requests for cooperating agency status. Instead, requests for studies and cooperating agency status will be due 30 days from the date of this notice.

Additional study requests and requests for cooperating agency status may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.” All paper documents (original and eight copies) should be filled with: Kimberly D. Bose, Secretary, Federal Energy Regulatory Commission, 888 First Street, NE., Washington, DC 20426.

m. The application is not ready for environmental analysis at this time.

n. Project Description: The Alder Brook Mini Hydro Project would consist of the following: (1) A 4-foot-wide by 8-foot-long by 3-foot-high drop inlet to be located below the Town of Richford's culvert on Alder Brook; (2) a 12-inch-diameter, 250-foot-long penstock; (3) a shed containing one generating unit with total installed generating capacity of 7.0 kilowatts (kW); and (4) a 170-foot-long transmission line from the shed to the barn. The project would have an average annual generation of 37,621 kilowatt-hours.

o. A copy of the application is on file with the Commission and is available for public inspection. This filing may also be viewed on the Web at http://www.ferc.gov using the “eLibrary” link. Enter the docket number, excluding the last three digits in the docket number filed to access the documents. For assistance, please contact FERC Online Support at FERCOnlineSupport@ferc.gov or toll free at (866) 208-3676 or for TTY, contact (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Vermont State Historic Preservation Officer (SHPO), as required by section 106, National Historic Preservation Act, and the regulations of the Advisory Council on Historic Preservation, 36 CFR 800.4.

q. Procedural schedule and final amendments: We intend to accept the consultation that has occurred on this project during the pre-filing period as satisfying our requirements for the standard 3-stage consultation process under 18 CFR 4.38 and for National Environmental Policy Act scoping. In addition, Commission staff propose to issue a single environmental assessment rather than issue a draft and final EA.

Kimberly D. Bose,
Secretary.

[FR Doc. E9-20234 Filed 8-21-09; 8:45 am]

BILLING CODE 6717-01-P